DEPARTMENT OF TRANSPORTATION

Surface Transportation Board

[STB Finance Docket No. 35258]

Mississippi Central Railroad Co.—Change in Operators Exemption—Tishomingo Railroad Company, Inc

Mississippi Central Railroad Co. (MSCI),¹ a Class III rail carrier, has filed a verified notice of exemption under 49 CFR 1150.41 to change operators from Tishomingo Railroad Company, Inc. (TISH),² to MSCI on a line of railroad of the State of Mississippi (the State), at Iuka, MS. Pursuant to an agreement with TISH, MSCI will lease and operate approximately 10 miles of rail line between Norfolk Southern Railway Company's Iuka Wye at milepost 0.0, and the Tri-State Commerce Park at milepost 10.0, in Tishomingo County, MS. MSCI states that, pursuant to the lease agreement with the State, MSCI will lease, operate, maintain, and perform all common carrier service on the line. This change in operators is exempt under 49 CFR 1150.41(c).³

¹ MSCI is controlled by Pioneer Railcorp. See Pioneer Railcorp—Continuance in Control Exemption—Gettysburg & Northern Railroad Co., STB Finance Docket No. 34010 (STB served Feb. 27, 2001).

² See Tishomingo Railroad Company, Inc.—Lease and Operation Exemption—Line of State of Mississippi at Iuka, MS, STB Finance Docket No. 33806 (STB served Oct. 28, 1999).

³ In order to quality for a change in operators exemption, an applicant must give notice to shippers on the line. See 49 CFR 1150.42(b). MSCI states that no shippers are known to have shipped or received freight within the last 2 years, therefore no service of this notice is required on shippers. MSCI also certifies that a copy of the verified notice of exemption was sent to the State.

Based on projected revenues for the line, MSCI expects to remain a Class III rail carrier after consummation of the proposed transaction. MSCI certifies that its projected annual revenues as a result of this transaction will not result in the creation of a Class II or Class I rail carrier.

MSCI states that it intends to consummate the transaction on August 1, 2009 (at least 30 days after the notice of exemption was filed), and that operations will begin thereafter.

Pursuant to the Consolidated Appropriations Act, 2008, Public Law No. 110-161, § 193, 121 Stat. 1844 (2007), nothing in this decision authorizes the following activities at any solid waste rail transfer facility: Collecting, storing, or transferring solid waste outside of its original shipping container; or separating or processing solid waste (including baling, crushing, compacting, and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions for stay must be filed no later than July 17, 2009 (at least 7 days before the exemption becomes effective).

An original and 10 copies of all pleadings, referring to STB Finance Docket No. 35258, must be filed with the Surface Transportation Board, 395 E Street, SW., Washington, DC 20423-0001. In addition, a copy of each pleading must be served on Daniel A. LaKemper, General Counsel, Mississippi Central Railroad Co., 1318 S. Johanson Road, Peoria, IL 61607.

Board decisions and notices are available on our Web site at “http://www.stb.dot.gov.”

Decided: July 6, 2009.
By the Board, Rachel D. Campbell, Director, Office of Proceedings.
Jeffrey Herzig,
Clearance Clerk.

[FR Doc. E9-16319 Filed 7-9-09; 8:45 am]

BILLING CODE 4915-01-P